DEPARTMENT OF ENERGY

Federal Energy Regulatory Commission

[Docket No. IC01-511-001, FERC 511]

Information Collection Submitted for Review and Request for Comments

April 17, 2001.

AGENCY: Federal Energy Regulatory Commission, DoE.

ACTION: Notice of submission for review by the Office of Management and Budget (OMB) and request for comments.

SUMMARY: The Federal Energy Regulatory Commission (Commission) has submitted the energy information collection listed in this notice to Office of Management and Budget (OMB) for review under provisions of section 3507 of the Paperwork Reduction Act of 1995 (Pub. L. 104-13). Any interested person may file comments on the collection of information directly with OMB and should address a copy of those comments to the Commission as explained below. The Commission received no comments in response to an earlier Federal Register notice of February 1, 2001 (66 FR 8575-76) and has made this notation in its submission to OMB.

DATES: Comments regarding this collection of information are best assured of having their full effect if received on or before May 23, 2001.

ADDRESSES: Address comments to Office of Management and Budget, Office of Information and Regulatory Affairs, Attention: Federal Energy Regulatory Commission, Desk Officer, 725 17th Street, NW., Washington, DC 20503. A copy of the comments should also be sent to Federal Energy Regulatory Commission, Office of the Chief Information Officer, Attention: Mr. Michael Miller, 888 First Street NE., Washington, DC 20426.

FOR FURTHER INFORMATION CONTACT: Michael Miller may be reached by telephone at (202) 208-1415, by fax at (202) 208-1415, and by e-mail at mike.miller@ferc.fed.us.

SUPPLEMENTARY INFORMATION:

Description

The energy information collection submitted to OMB for review contains:

1. Collection of Information: FERC-511 “Application for Transfer of License”.

2. Sponsor: Federal Energy Regulatory Commission.

3. Control No.: OMB No. 1902-0069. The Commission is now requesting that OMB approve a three-year extension of the current expiration date, with no changes to the existing collection. There is a change to the reporting burden which is the result of an increase in the number of entities who have filed applications to transfer their licenses due to restructuring within the industry. This change has been indicated as an adjustment to the reporting burden. These are mandatory collection requirements.

4. Necessity of Collection of Information: Submission of the information is necessary to enable the Commission to carry out its responsibilities in implementing the provisions of the Federal Power Act (FPA). The information reported under Commission identifier FERC-511 is filed in accordance with sections 4(e) and 8 of the FPA. Section 4(e) of the FPA authorizes the Commission to issue licenses for construction, operation and maintenance of dams, water conduits, reservoirs, and transmission lines or other facilities necessary for the development, transmission and utilization of power from bodies of water Congress has jurisdiction over. Section 8 of the FPA provides that the voluntary transfer of any license can only be made with the written approval of the Commission. Any successor to the licensee may assign the rights of the original licensee, but is subject to all of the conditions of the license. The information is collected in the form of a written application for transfer of a license, executed jointly by the parties to the proposed transfer. It is used by the Commission staff to determine the qualifications of the proposed transferee to hold the license, and to prepare the transfer of the license order.

5. Respondent Description: The respondent universe currently comprises on average, 40 applicants for transfer of a hydro electric license.

6. Estimated Burden: 1,600 total burden hours, 40 respondents, 1 response annually, 40 hours per response (average).

7. Estimated Cost Burden to Respondents: 1,600 hours ÷ 2,080 hours per year × $117,041 per year = $90,032, or $2,251 per respondent.

Statutory Authority: Sections 4(e), 8 of the Federal Power Act (FPA), 16 U.S.C. Sections 791a et seq.

David P. Boergers,
Secretary.

[FR Doc. 01-9905 Filed 4-20-01; 8:45 am]

BILLING CODE 6717-01-M